DEPARTMENT OF COMMERCE

International Trade Administration

Rescission of Antidumping and Countervailing Duty Administrative Reviews

AGENCY: Enforcement and Compliance, International Trade Administration, Department of Commerce.

SUMMARY: Based upon the timely withdrawal of all review requests, the Department of Commerce (Commerce) is rescinding the administrative reviews covering the periods of review and the antidumping duty (AD) and countervailing duty (CVD) orders identified in the table below.

DATES: Applicable October 26, 2022.

FOR FURTHER INFORMATION CONTACT: Brenda E. Brown, AD/CVD Operations, Customs Liaison Unit, Enforcement and Compliance, International Trade Administration, U.S. Department of Commerce, 1401 Constitution Avenue NW, Washington, DC 20230, telephone: (202) 482-4735.

SUPPLEMENTARY INFORMATION:

Background

Based upon timely requests for review, Commerce initiated administrative reviews of certain companies for the periods of review and the AD and CVD orders listed in the table below, pursuant to 19 CFR 351.221(c)(1)(i).¹ All requests for these reviews have been timely withdrawn.²

¹ See Initiation of Antidumping and Countervailing Duty Administrative Reviews, 87 FR 21619 (April 12, 2022); see also Initiation of Antidumping and Countervailing Duty Administrative Reviews, 87 FR 29280 (May 13, 2022); Initiation of Antidumping and Countervailing Duty Administrative Reviews, 87 FR 35165 (June 9, 2022); Initiation of Antidumping and Countervailing Duty Administrative Reviews, 87 FR 42144 (July 14, 2022)); Initiation of Antidumping and Countervailing Duty Administrative Reviews, 87 FR 48459 (August 9, 2022); Initiation of Antidumping and Countervailing Duty Administrative Reviews, 87 FR 54463 (September 6, 2022); Initiation of Antidumping and Countervailing Duty Administrative Reviews, 87 FR 61278 (October 11, 2022).

² The letters withdrawing the review requests may be found in Enforcement and Compliance's Antidumping and Countervailing Duty Centralized Electronic Service System (ACCESS). ACCESS is available to registered users at https://access.trade.gov.

Rescission of Review

Pursuant to 19 CFR 351.213(d)(1), Commerce will rescind an administrative review, in whole or in part, if the parties that requested the review withdraw their review requests within 90 days of the date of publication of the notice of initiation for the requested review. All parties withdrew their requests for the reviews listed in the table below within the 90-day deadline. No other parties requested administrative reviews of these AD/CVD orders for the periods noted in the table. Therefore, in accordance with 19 CFR 351.213(d)(1), Commerce is rescinding, in their entirety, the administrative reviews listed in the table below.

| Period of review
AD Proceedings
Argentina: Biodiesel, A-357-820 | 4/1/2021-3/31/2022
Belgium: Stainless Steel Plate in Coils, A-423-808 | 5/1/2021-4/30/2022
Cambodia: Mattresses, A-555-001 | 11/3/2020-4/30/2022
India: Certain Welded Carbon Steel Standard Pipes and Tubes, A-533-502 | 5/1/2021-4/30/2022
Indonesia:
Biodiesel, A-560-830 | 4/1/2021-3/31/2022
Prestressed Concrete Steel Wire Strand, A-560-837 | 11/19/2020-5/31/2022
Japan: Stainless Steel Sheet and Strip in Coils, A-588-845 | 7/1/2021-6/30/2022
Republic of Korea:
Certain Cut-To-Length Carbon-Quality Steel Plate, A-580-836 | 2/1/2021-1/31/2022
Polyester Staple Fiber, A-580-839 | 5/1/2021-4/30/2022
Seamless Carbon and Alloy Steel Standard, Line and Pressure Pipe, A-580-909 | 2/20/2021-7/31/2022
Socialist Republic of Vietnam:
Mattresses, A-552-827 | 11/3/2020-4/30/2022
Steel Nails, A-552-818 | 7/1/2021-6/30/2022
Serbia: Mattresses, A-801-002 | 11/3/2020-4/30/2022
South Africa: Stainless Steel Plate in Coils, A-791-805 | 5/1/2021-4/30/2022
Sultanate of Oman: Polyethylene Terephthalate Resin, A-523-810 | 5/1/2021-4/30/2022
Taiwan:
Certain Circular Welded Carbon Steel Pipes and Tubes, A-583-008 | 5/1/2021-4/30/2022
Certain Crystalline Silicon Photovoltaic Products, A-583-853 | 2/1/2021-1/31/2022
Stainless Steel Plate in Coils, A-583-830 | 5/1/2021-4/30/2022
The People's Republic of China:
Aluminum Extrusions, A-570-967 | 5/1/2021-4/30/2022
Certain Plastic Decorative Ribbon, A-570-075 | 3/1/2021-2/28/2022
Certain Vertical Shaft Engines Between 99cc and Up to 225cc, and Parts Thereof, A-570-124 | 7/23/2020-4/30/2022
Stainless Steel Sheet and Strip, A-570-042 | 4/1/2021-3/31/2022
Turkey: Carbon and Alloy Steel Wire Rod, A-489-831 | 5/1/2021-4/30/2022
CVD Proceedings
India: Quartz Surface Products, C-533-890 | 1/1/2021-12/31/2021
The Republic of Korea: Seamless Carbon and Alloy Steel Standard, Line and Pressure Pipe, C-580-910 | 12/11/2020-12/31/2021
The Socialist Republic of Vietnam: Certain Steel Nails, C-552-819 | 1/1/2021-12/31/2021
South Africa: Stainless Steel Plate in Coils, C-791-806 | 1/1/2021-12/31/2021
The People's Republic of China:
Certain Vertical Shaft Engines Between 99cc and up to 225 cc, and Parts Thereof, C-570-125 | 5/26/2020-12/31/2021
Stainless Steel Sheet and Strip, C-570-043 | 1/1/2021-12/31/2021
Mattresses, C-570-128 | 9/11/2020-12/31/2021
Turkey: Large Diameter Welded Pipe, C-489-834 | 1/1/2021-12/31/2021

Assessment

Commerce will instruct U.S. Customs and Border Protection (CBP) to assess antidumping and/or countervailing duties on all appropriate entries during the periods of review noted above for each of the listed administrative reviews at rates equal to the cash deposit of estimated antidumping or countervailing duties, as applicable, required at the time of entry, or withdrawal of merchandise from warehouse, for consumption, in accordance with 19 CFR 351.212(c)(1)(i). Commerce intends to issue assessment instructions to CBP no earlier than 35 days after the date of publication of this recission notice in the Federal Register for rescinded administrative reviews of AD/CVD orders on countries other than Canada and Mexico. For rescinded administrative reviews of AD/CVD orders on Canada or Mexico, Commerce intends to issue assessment instructions to CBP no earlier than 41 days after the date of publication of this recission notice in the Federal Register.

Notification to Importers

This notice serves as the only reminder to importers of merchandise subject to AD orders of their responsibility under 19 CFR 351.402(f)(2) to file a certificate regarding the reimbursement of antidumping duties and/or countervailing duties prior to liquidation of the relevant entries during the review period. Failure to comply with this requirement could result in the presumption that reimbursement of antidumping duties and/or countervailing duties occurred and the subsequent assessment of doubled antidumping duties.

Notification Regarding Administrative Protective Order

This notice also serves as the only reminder to parties subject to administrative protective orders (APO) of their responsibility concerning the disposition of proprietary information disclosed under APO in accordance with 19 CFR 351.305(a)(3), which continues to govern business proprietary information in these segments of these proceedings. Timely written notification of the return or destruction of APO materials or conversion to judicial protective order is hereby requested. Failure to comply with the regulations and the terms of an APO is a sanctionable violation.

Notification to Interested Parties

This notice is issued and published in accordance with sections 751(a)(1) and 777(i)(1) of the Tariff Act of 1930, as amended, and 19 CFR 351.213(d)(4).

Dated: October 20, 2022.
James Maeder,
Deputy Assistant Secretary for Antidumping and Countervailing Duty Operations.

[FR Doc. 2022-23263 Filed 10-25-22; 8:45 am]

BILLING CODE 3510-DS-P